DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: Report of Requests for Restrictive Trade Practice or Boycott, Single or Multiple Transactions.

Agency Form Number: 621P, 6051P, and 6051P-A (continuation sheet).

OMB Approval Number: 0694-0012.

Type of Request: Regular submission.

Burden Hours: 1,417.

Average Time Per Response: 1 to 1 hour and 30 minutes.

Number of Respondents: 1,291.

Needs and Uses: The collected information, from U.S. citizens, is used to accurately monitor requests for participation in foreign boycotts against countries friendly to the U.S.

This information is also used to note trends in such boycott activity and to assist in carrying out the U.S. policy of opposition to such boycotts.

Affected Public: Business or other for-profit organizations.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: August 22, 2007.
Gwellnar Banks,
Management Analyst, Office of the Chief Information Officer.

[FR Doc. E7-16976 Filed 8-27-07; 8:45 am]

BILLING CODE 3510-DT-P